NUCLEAR REGULATORY COMMISSION

[Docket No. 50-271-LA]

In the Matter of Entergy Nuclear Vermont Yankee, LLC and Entergy Nuclear Operations, Inc. (Vermont Yankee Nuclear Power Station); Notice of Appointment of Adjudicatory Employee

Pursuant to 10 CFR 2.4, notice is hereby given that Mr. Daniel M, Barss, Team Leader, Office of Nuclear Security and Incident Response, Division of Preparedness and Response, has been appointed as a Commission adjudicatory employee within the meaning of section 2.4, to advise the Commission regarding issues relating to review of the Atomic Safety and Licensing Board's Memorandum and Order LBP-15-4 in this license amendment proceeding. Mr. Barss has not previously performed any investigative or litigating function in connection with this or any related proceeding. Until such time as a final decision is issued in this matter, interested persons outside the agency and agency employees performing investigative or litigating functions in this proceeding are required to observe the restrictions of 10 CFR 2.347 and 2.348 in their communications with Mr. Barss.

It is so ordered.

Dated at Rockville, Maryland, this 20th day of May, 2015.
For the Nuclear Regulatory Commission.
Annette L. Vietti-Cook,
Secretary of the Commission.

[FR Doc. 2015-12805 Filed 5-26-15; 8:45 am]

BILLING CODE 7590-01-P